FEDERAL COMMUNICATIONS COMMISSION

Network Reliability and Interoperability Council

AGENCY: Federal Communications Commission.

ACTION: Notice of public meeting.

SUMMARY: In accordance with the Federal Advisory Committee Act, this notice advises interested persons of the second, third and fourth meetings of the Network Reliability and Interoperability Council (Council) under its charter renewed as of December 26, 2001. The meetings will be held at the Federal Communications Commission in Washington, DC.

DATES: Friday, June 14, 2002 at 10 a.m. to 1 p.m.; September 13, 2002 at 10 a.m. to 1 p.m.; December 6, 2002 at 10 a.m. to 1 p.m.

ADDRESSES: Federal Communications Commission, 445 12th St. SW., Room TW-C305, Washington, DC.

FOR FURTHER INFORMATION CONTACT: Jeffery Goldthorp at 202-418-1096 or TTY 202-418-2989

SUPPLEMENTARY INFORMATION: The Council was established by the Federal Communications Commission to bring together leaders of the telecommunications industry and telecommunications experts from academic, consumer and other organizations to explore and recommend measures that will enhance network reliability, network security, and network integrity.

The Council will discuss the progress of working groups that are addressing the topics that are contained in the Council's charter and any additional issues that may come before it.

Members of the general public may attend the meeting. The Federal Communications Commission will attempt to accommodate as many people as possible. Admittance, however, will be limited to the seating available. The public may submit written comments before the meeting to Jeffery Goldthorp, the Commission's Designated Federal Officer for the Network Reliability and Interoperability Council, by email (jgoldtho@FCC.GOV) or U.S. mail (7-A325, 445 12th St. SW., Washington, DC 20554). Real Audio and streaming video Access to the meeting will be available at http://www.fcc.gov/

Federal Communications Commission.
William F. Caton,
Acting Secretary.

[FR Doc. 02-8798 Filed 4-10-02; 8:45 am]

BILLING CODE 6712-01-P